NUCLEAR REGULATORY COMMISSION

[Docket No. NRC-2009-0040]

Agency Information Collection Activities: Proposed Collection; Comment Request; Correction

AGENCY: Nuclear Regulatory Commission.

ACTION: Correction.

SUMMARY: This document corrects a notice appearing in the Federal Register on February 9, 2009 (74 FR 6421) that informs the public of a notice of pending NRC action to submit an information collection request to the Office of Management and Budget (OMB) and solicitation of public comment on the collection “Billing Instructions for NRC Cost Type Contracts (3150-0109).”

FOR FURTHER INFORMATION CONTACT: Gregory Trussell, NRC Clearance Officer, Office of Information Services; telephone (301) 415-6445 or infocollects.resource@nrc.gov.

SUPPLEMENTARY INFORMATION: On page 6421, first column, the subject heading is corrected to read “Docket No. NRC-2009-0040” instead of “Docket No. NRC-2008-0040.” The same change should be made in the second column, last paragraph, where the docket number appears twice.

Dated at Rockville, Maryland, this 19th day of February 2009.
For the Nuclear Regulatory Commission.
Gregory Trussell,
NRC Clearance Officer.

[FR Doc. E9-4566 Filed 3-3-09; 8:45 am]

BILLING CODE 7590-01-P